DEPARTMENT OF DEFENSE

Department of the Army; Corps of Engineers

Proposed Reduction in Hours of Operation at Lower St. Anthony Falls Lock and Lock and Dam 1, Located in Minneapolis, MN

AGENCY: Department of the Army, U.S. Army Corps of Engineers, DOD.

ACTION: Notice.

SUMMARY: The three Mississippi River locks in Minneapolis, MN (Upper St. Anthony Falls, Lower St. Anthony Falls, and Lock and Dam 1) currently operate 19 hours per day/7 days per week during the navigation season. This level of service follows the guidance from the Corps Inland Marine Transportation System (IMTS) Board of Directors.

Section 2010 of the Water Resources Reform and Development Act of 2014 (WRRDA) directed the Secretary of the Army to close the Upper St. Anthony Falls Lock and Dam located on the Mississippi River at river mile 853.9 no later than 1 year after the enactment date of WRRDA 2014.

With the expected closing of the Upper St. Anthony Falls lock, it is anticipated the remaining two Minneapolis locks will have less than 500 commercial lockages per year. To meet IMTS guidance, it is proposed Lower St. Anthony Falls and Lock and Dam 1 transition to one 10-hour shift per day/7 days per week during the 2015 navigation season and beyond. The navigation season on the Upper Mississippi normally begins in March, depending on river conditions, and wraps up by the end of November. Pool levels will not be affected by change of operating hours.

DATES: Submit written comments concerning this notice by October 22, 2014.

ADDRESSES: Submit comments to Mr. Kevin Baumgard, Deputy Chief, Operations Division, U.S. Army Corps of Engineers, 180 Fifth Street East, Suite 700, St. Paul, MN 55101-1678, or by email at kevin.l.baumgard@usace.army.mil.

FOR FURTHER INFORMATION CONTACT: Mr. Michael Kidby at Corps of Engineers Headquarters in Washington, DC, by phone at 202-761-0250.

SUPPLEMENTARY INFORMATION: The legal authority for the regulation governing the use, administration, and navigation of the Twin Cities locks is Section 4 of the River and Harbor Act of August 18, 1894 (28 Stat. 362), as amended, which is codified at 33 U.S.C. 1. This statute requires the Secretary of the Army to “prescribe such regulations for the use, administration, and navigation of the navigable waters of the United States” as the Secretary determines may be required by public necessity. Reference 33 CFR 207.300, Ohio River, Mississippi River above Cairo, Ill., and their tributaries; use, administration, and navigation.

Brenda S. Bowen,
Army Federal Register Liaison Officer.

[FR Doc. 2014-22415 Filed 9-19-14; 8:45 am]

BILLING CODE 3720-58-P